EXPORT-IMPORT BANK OF THE UNITED STATES

[Public Notice 2012-0347]

Agency Information Collection Activities: Comment Request

AGENCY: Export-Import Bank of the United States.

ACTION: Submission for OMB review and comments request.

Form Title: EIB 92-51 Application for Special Buyer Credit Limit (SBCL) Under Multi-Buyer Credit Insurance Policies.

SUMMARY: The Export-Import Bank of the United States (Ex-Im Bank), as a part of its continuing effort to reduce paperwork and respondent burden, invites the general public and other Federal Agencies to comment on the proposed information collection, as required by the Paperwork Reduction Act of 1995.

The “Application for Special Buyer Credit Limit (SBCL) Under Multi-Buyer Export Credit Insurance Policies” form will be used by entities involved in the export of US goods and services, to provide Ex-Im Bank with the information necessary to obtain legislatively required assurance of repayment and fulfills other statutory requirements.

The application can be reviewed at: www.exim.gov/pub/pending/EIB92-51.pdf Application for Special Buyer Credit Limit (SBCL) Under Multi-Buyer Credit Insurance Policies.

DATES: Comments should be received on or before September 24, 2012 to be assured of consideration.

ADDRESSES: Comments maybe submitted electronically on www.regulations.gov or by mail to Walter Kosciow, Export-Import Bank of the United States, 811 Vermont Ave. NW., Washington, DC 20571.

SUPPLEMENTARY INFORMATION: Titles and Form Number: EIB 92-51 Application for Special Buyer Credit Limit (SBCL) Under Multi-Buyer Credit Insurance Policies.

OMB Number: 3048-0015.

Type of Review: Regular.

Need and Use: The information requested enables the applicant to provide Ex-Im Bank with the information necessary to obtain legislatively required assurance of repayment and fulfills other statutory requirements.

Annual Number of Respondents: 3,400.

Estimated Time per Respondent: 30 minutes.

Government Annual Burden Hours: 3,400 hours.

Frequency of Reporting or Use: Yearly.

Government Review Time: 1 hour.

Total Hours: 3,400.

Cost to the Government: $131,648.

Sharon A. Whitt,
Agency Clearance Officer.

[FR Doc. 2012-18006 Filed 7-23-12; 8:45 am]

BILLING CODE 6690-01-P